DEPARTMENT OF AGRICULTURE

Commodity Credit Corporation

Public Hearing on New Entrant's 2008 Crop Cane Sugar Marketing Allotment

AGENCY: Commodity Credit Corporation, USDA.

ACTION: Notice of public hearing.

SUMMARY: The Commodity Credit Corporation (CCC) will hold a public hearing to receive comments on providing an allocation to a new entrant sugarcane processor in Louisiana and possible impacts on existing cane processors and producers. CCC also requests comments on the evidence CCC should require from a new entrant to demonstrate eligibility for a marketing allocation.

DATES: The public hearing will be held Thursday, June 26, 2008, in the Howard Johnson Maria Louisa Rienza Room, 203 East Bayou Road, Thibodaux, Louisiana 70301. The hearing will start at 9 a.m. central standard time (CST).

ADDRESSES: Barbara Fecso, Dairy and Sweeteners Analysis Group, Economic Policy and Analysis Staff, Farm Service Agency, USDA, 1400 Independence Avenue, SW., STOP 0516, Washington, DC 20250-0516; telephone: (202) 720-4146; fax: (202) 690-1480; e-mail: barbara.fecso@wdc.usda.gov.

FOR FURTHER INFORMATION CONTACT: Barbara Fecso at (202) 720-4146.

SUPPLEMENTARY INFORMATION: USDA will hold a public hearing as requested by Louisiana sugarcane processors regarding the application of the Andino Energy Enterprises, L.L.C., (Andino Energy) for a cane sugar marketing allocation for the 2008 crop year. Andino Energy is requesting a 2008-crop year allocation of 50,000 short tons, raw value (STRV), and subsequent increases to the allocation of 60,000 STRV for the 2009 crop, 80,000 STRV for the 2010 crop, 100,000 STRV for the 2011 crop, and 120,000 STRV for the 2012 crop.

Section 359d(b)(1)(E) of the Agricultural Adjustment Act of 1938 (7 U.S.C. 1359dd(b)(1)(E)), as amended, authorizes CCC to provide a sugarcane processor, who begins processing on or after May 13, 2002, an allocation that provides a fair, efficient, and equitable distribution of the allocations from the allotment for the State in which the processor is located. To make an allocation to a processor in Louisiana, a proportionate share State, the Secretary establishes proportionate shares in a quantity sufficient to produce the sugarcane required to satisfy the allocations. CCC must consider the adverse effects on existing cane processors and producers in mainland States when determining whether a new entrant processor allocation is warranted. Also, prior to the cane sugar allotment establishment, Andino Energy must provide satisfactory evidence that it has a viable processing facility, an adequate sugarcane supply, and a market for the cane sugar product. If approved, the new sugarcane allocation will be subtracted, on a pro rata basis, from the allocations otherwise provided to each Louisiana cane processor when the 2008 crop allocations are determined by USDA.

CCC will use this hearing to collect comments on (1) any adverse effects that the provisions of an allocation to Andino Energy may have on existing cane processors and producers and (2) the evidence CCC should require from a new entrant to demonstrate the ability to process, produce, and market raw cane sugar. Attendance is open to all interested parties.

The hearing and any results from it will be subject to new regulations that will be published to implement the sugar provisions of the Food, Conservation, and Energy Act of 2008 (popularly known as the “2008 Farm Bill”), Pub. L. 110-234, enacted on May 22, 2008. There are no current regulations that specify a particular amount of advance notice for the hearing. The new law, as to allotments, is much the same as the old law. The hearing date and place have been set to allow a sufficient time for consideration in the normal allotment cycle and for convenience for interested parties in light of already scheduled industry meetings.

The hearing will be held on June 26, from 9 a.m. to 2 p.m. CST, in the Howard Johnson Maria Louisa Rienza Room, 203 East Bayou Road, Thibodaux, Louisiana 70301. Anyone wishing to make an oral statement may do so, time permitting. Comments will be limited to 5 minutes. A signup sheet for oral statements will be available at the entrance of the meeting room one hour before the hearing begins. Oral statements will be made in the order the request was received. Anyone wishing to make a written statement in lieu of an oral statement should send their statement to Barbara Fecso, Dairy and Sweeteners Analysis Group, Economic Policy and Analysis Staff, Farm Service Agency, USDA, 1400 Independence Avenue, SW., STOP 0516, Washington, DC 20250-0516; telephone: (202) 720-4146; fax: (202) 690-1480; e-mail: barbara.fecso@wdc.usda.gov. Statements must be received by close of business on June 26, 2008.

Persons with disabilities who require special accommodations to attend or participate in the meetings should contact Barbara Fecso.

Signed in Washington, DC on May 30, 2008.
Glen L. Keppy,
Acting Executive Vice President, Commodity Credit Corporation.

[FR Doc. E8-12453 Filed 6-3-08; 8:45 am]

BILLING CODE 3410-05-P